DEPARTMENT OF STATE

[Public Notice 7543]

Industry Advisory Panel: Notice of Charter Renewal

The Under Secretary for Management has approved the renewal of the charter for the U.S. Department of State Bureau of Overseas Buildings Operations' (OBO) Industry Advisory Panel for an additional two-year period. The panel meets semi-annually in the Harry S Truman Building at the U.S. Department of State, located at 2201 C Street NW., Washington, DC. The majority of each meeting is devoted to an exchange of ideas between OBO's senior management and the panel members on acquisitions, design, operations, security, and building maintenance. The meetings are open to the public and are subject to advance registration and provision of required security information. Procedures for registration are included with each meeting announcement, no later than fifteen business days before each meeting.

OBO's mission is to provide safe, secure, and functional facilities for the conduct of U.S. diplomacy and the promotion of U.S. interests worldwide. These facilities represent American values and the best in American architecture, engineering, technology, sustainability, art, culture, and construction execution. For further information, please contact Christine Foushee at FousheeCT@state.gov or (703) 875-4131.

Dated: December 14, 2011.
Lydia Muniz,
Acting Director, Overseas Buildings Operations, U.S. Department of State.

[FR Doc. 2011-32813 Filed 12-21-11; 8:45 am]

BILLING CODE 4710-24-P